DEPARTMENT OF THE INTERIOR

National Park Service

Final General Management Plan/Wilderness Study, Final Environmental Impact Statement, Pictured Rocks National Lakeshore, MI

AGENCY: National Park Service.

ACTION: Notice of Availability of the Final General Management Plan/Wilderness Study/Final Environmental Impact Statement, Pictured Rocks National Lakeshore.

SUMMARY: Pursuant to the National Environmental Policy Act of 1969, 42 U.S.C. 4321 et seq., the National Park service (NPS) announces the availability of a final general management plan/wilderness study/environmental impact statement (FEIS) for Pictured Rocks National Lakeshore, Michigan.

DATES: The draft general management plan/wilderness study/environmental impact statement was on public review from August 29, 2003 through November 23, 2003. Public hearings were held on the draft wilderness study on August 26 at Munising, Michigan, and on August 27 at Grand Marais, Michigan. Responses to substantive public comments are addressed in the final general management plan/wilderness study/environmental impact statement. The NPS will execute a record of decision (ROD) no sooner than 30 days following publication of the Environmental Protection Agency's notice of availability of the final environmental impact statement in the Federal Register.

ADDRESSES: Copiers of the final general management plan/wilderness study/environmental impact statement are available upon request by writing Karen Gustin, Superintendent, Pictured Rocks National Lakeshore, P.O. Box 40, Munising, Michigan 49862-0040, by phone 906-387-2607, or by e-mail message at piro_gmp@nps.gov. The document can be picked up in person at the park's headquarters at N8391 Sand Point Road, Munising, Michigan.

FOR FURTHER INFORMATION CONTACT: Karen Gustin, Superintendent, Pictured Rocks National Lakeshore, or by calling 906-387-2607.

SUPPLEMENTARY INFORMATION: The final general management plan/wilderness study/environmental impact statement combines two planning elements and an environmental analysis that covers both the plan and the wilderness study. The general management plan (GMP) provides a framework for making decisions about and managing the national lakeshore's resources and visitor use for the next 15 years. The wilderness study explores options for wilderness designation in the national lakeshore from no wilderness to 26 percent of the park. The environmental impact statement (EIS) includes information and analysis on the potential effect of the alternatives explored in the final general management plan/wilderness study both within the national lakeshore boundaries as well as regionally. Five alternatives are examined that address wilderness as well as other visitor use and resource issues. The NPS preferred alternative would expand visitor services on the west and east ends of the park, recommend upgrading of county Road H-58, and propose the Beaver Basin (16% of the lakeshore) be designated as wilderness.

Based on the findings of the wilderness study, a formal wilderness proposal will be submitted to the Director of the NPS for approval and subsequent consideration by the Department of the Interior, President, and Congress.

Dated: July 9, 2004.
Ernest Quintana,
Regional Director, Midwest Region.

[FR Doc. 04-23745 Filed 10-21-04; 8:45 am]

BILLING CODE 4312-52-M